SECURITIES AND EXCHANGE COMMISSION

[Release No. 34-81363; File No. SR-BatsBZX-2017-07)]

Self-Regulatory Organizations; Bats BZX Exchange, Inc.; Notice of Designation of a Longer Period for Commission Action on Proceedings To Determine Whether To Approve or Disapprove a Proposed Rule Change, as Modified by Amendment No. 1, To List and Trade Shares of the VanEck Vectors AMT-Free National Municipal Index ETF of VanEck Vectors ETF Trust Under BZX Rule 14.11(c)(4)

August 9, 2017.

On January 27, 2017, Bats BZX Exchange, Inc. (“Exchange”) filed with the Securities and Exchange Commission (“Commission”), pursuant to Section 19(b)(1) of the Securities Exchange Act of 1934 (“Act”) ¹ and Rule 19b-4 thereunder,² a proposed rule change to list and trade shares of the VanEck Vectors AMT-Free National Municipal Index ETF of VanEck Vectors ETF Trust under BZX Rule 14.11(c)(4). The proposed rule change was published for comment in the Federal Register on February 14, 2017.³ On March 10, 2017, the Exchange filed Amendment No. 1 to the proposed rule change.⁴ On March 30, 2017, pursuant to Section 19(b)(2) of the Act,⁵ the Commission designated a longer period within which to approve the proposed rule change, disapprove the proposed rule change, or institute proceedings to determine whether to approve or disapprove the proposed rule change.⁶ On May 11, 2017, the Commission instituted proceedings to determine whether to approve or disapprove the proposed rule change.⁷ The Commission has received no comments on the proposed rule change.

¹ 15 U.S.C. 78s(b)(1).

² 17 CFR 240.19b-4.

³ See Securities Exchange Act Release No. 79989 (February 8, 2017), 82 FR 10615.

⁴ Amendment No. 1 to the proposed rule change is available on the Commission's Web site at: https://www.sec.gov/comments/sr-batsbzx-2017-07/batsbzx201707-1667531-148997.pdf.

⁵ 15 U.S.C. 78s(b)(2).

⁶ See Securities Exchange Act Release No. 80350, 82 FR 16647 (April 5, 2017).

⁷ See Securities Exchange Act Release No. 80664, 82 FR 22680 (May 17, 2017).

Section 19(b)(2) of the Act ⁸ provides that, after initiating disapproval proceedings, the Commission shall issue an order approving or disapproving the proposed rule change not later than 180 days after the date of publication of notice of filing of the proposed rule change. The Commission may extend the period for issuing an order approving or disapproving the proposed rule change by not more than 60 days if the Commission determines that a longer period is appropriate and publishes the reasons for such determination. The proposed rule change was published for notice and comment in the Federal Register on February 14, 2017. August 13, 2017 is 180 days from that date, and October 12, 2017 is 240 days from that date.

⁸ 15 U.S.C. 78s(b)(2).

The Commission finds it appropriate to designate a longer period within which to issue an order approving or disapproving the proposed rule change so that it has sufficient time to consider this proposed rule change. Accordingly, the Commission, pursuant to Section 19(b)(2) of the Act,⁹ designates October 12, 2017 as the date by which the Commission shall either approve or disapprove the proposed rule change (File No. SR-BatsBZX-2017-07), as modified by Amendment No. 1.

⁹ Id.

For the Commission, by the Division of Trading and Markets, pursuant to delegated authority.¹⁰
¹⁰ 17 CFR 200.30-3(a)(57).
Eduardo A. Aleman,
Assistant Secretary.

[FR Doc. 2017-17171 Filed 8-14-17; 8:45 am]

BILLING CODE 8011-01-P